DEPARTMENT OF TRANSPORTATION

Federal Aviation Administration

14 CFR Part 71

[Docket No. FAA-2022-1640; Airspace Docket No. 22-AWA-9]

RIN 2120-AA66

Amendment of Class C Airspace; Buffalo, NY

AGENCY: Federal Aviation Administration (FAA), DOT.

ACTION: Final rule.

SUMMARY: This action amends the Greater Buffalo International Airport, NY, Class C airspace description to update the Greater Buffalo International Airport and Lancaster Airport names and the associated airport reference point (ARP) geographic coordinates for each airport to match the FAA's National Airspace System Resource (NASR) database information. Additionally, this action makes a technical amendment to the airspace description header information by changing the title of the airspace area. This action does not change the boundaries, altitudes, or operating requirements of the Class C airspace area.

DATES: Effective date 0901 UTC, April 20, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates listed airport names and the associated ARP geographic coordinates for those airports and amends the airspace description header information by changing the airspace title.

History

Class C airspace areas are designed to improve air safety by reducing the risk of midair collisions in high volume airport terminal areas and to enhance the management of air traffic operations in that area. While amending Class D and Class E airspace areas in the vicinity of Niagara Falls and Buffalo, NY, the FAA identified that the Greater Buffalo International Airport and Lancaster Airport names and associated ARP geographic coordinates required updating in the Greater Buffalo International Airport Class C airspace description. Additionally, the FAA identified a technical amendment to the Greater Buffalo International Airport airspace description header information necessary to change the title of the Class C airspace area to reflect city and state instead of the airport name the airspace is designated around.

This action updates the airport names and ARP geographic coordinates for both airports to match the FAA's NASR database information and changes the title of the Class C airspace area to comply with FAA Order JO 7400.2 airspace legal description guidance.

Class C airspace areas are published in paragraph 4000 of FAA Order JO 7400.11G, dated August 19, 2022, and effective September 15, 2022, which is incorporated by reference in 14 CFR 71.1. The Class C airspace listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending the Greater Buffalo International Airport, NY, Class C airspace description to update the Greater Buffalo International Airport and Lancaster Airport names and associated ARP geographic coordinates. This action also makes a technical amendment to the airspace description header by changing the airspace title.

The “Greater Buffalo International Airport” name is changed to “Buffalo Niagara International Airport” and the “Lancaster Airport” name is changed to “Buffalo-Lancaster Regional Airport”. Additionally, the ARP geographic coordinates for the Buffalo Niagara International Airport are changed from “lat. 42°56′26″ N, long. 78°43′56″ W” to “lat. 42°56′26″ N, long. 78°43′50″ W” and the ARP geographic coordinates for the Buffalo-Lancaster Regional Airport are changed from “lat. 42°55′20″ N, long. 78°36′44″ W” to “lat. 42°55′19″ N, long. 78°36′43″ W”. Lastly, the airspace title in the airspace description header is changed from “Greater Buffalo International Airport, NY” to “Buffalo, NY”. The airport name and ARP geographic coordinates updates are made to coincide with the FAA's NASR database information. The airspace title technical amendment is made to comply with airspace legal description guidance contained in FAA Order JO 7400.2.

This action does not affect the boundaries, altitudes, or operating requirements of the airspace. Therefore, notice and public procedure under 5 U.S.C. 553(b) is unnecessary.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action making technical amendments to the Buffalo, NY, Class C airspace description qualifies for categorical exclusion under the National Environmental Policy Act (42 U.S.C. 4321 et seq.) and its implementing regulations at 40 CFR part 1500, and in accordance with FAA Order 1050.1F, Environmental Impacts: Policies and Procedures, paragraph 5-6.5a, which categorically excludes from full environmental impact review rulemaking actions that designate or modify classes of airspace areas, airways, routes, and reporting points (see 14 CFR part 71, Designation of Class A, B, C, D, and E Airspace Areas; Air Traffic Service Routes; and Reporting Points). As such, this airspace action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, effective September 15, 2022, is amended as follows:

Paragraph 4000 Class C Airspace.

* * * * *

AEA NY C Buffalo, NY

Buffalo Niagara International Airport, NY

(Lat. 42°56′26″ N, long. 78°43′50″ W)

Buffalo Airfield, NY

(Lat. 42°51′43″ N, long. 78°43′00″ W)

Buffalo-Lancaster Regional Airport, NY

(Lat. 42°55′19″ N, long. 78°36′43″ W)

That airspace extending upward from the surface to and including 4,700 feet MSL within a 5-mile radius of the Buffalo Niagara International Airport, excluding that airspace within a 1-mile radius of the Buffalo Airfield and within a 1-mile radius of the Buffalo-Lancaster Regional Airport; and that airspace extending upward from 2,200 feet MSL to and including 4,700 feet MSL within a 10-mile radius of the Buffalo Niagara International Airport, excluding that airspace within Canada.

* * * * *

Issued in Washington, DC, on January 5, 2023.
Scott M. Rosenbloom,
Manager, Airspace Rules and Regulations.

[FR Doc. 2023-00340 Filed 1-12-23; 8:45 am]

BILLING CODE 4910-13-P